DEPARTMENT OF ENERGY

Federal Energy Regulatory Commission

Combined Notice of Filings #2

Take notice that the Commission received the following electric corporate filings:

Docket Numbers: EC12-68-000.

Applicants: Stephentown Regulation Services LLC.

Description: Request of Stephentown Regulation Services LLC.

Filed Date: 2/16/12.

Accession Number: 20120216-5217.

Comments Due: 5 p.m. ET 2/28/12.

Take notice that the Commission received the following electric rate filings:

Docket Numbers: ER10-2131-001.

Applicants: Grand Ridge Energy LLC.

Description: Supplement to June 20, 2011 Triennial Report of of Grand Ridge Energy LLC.

Filed Date: 2/17/12.

Accession Number: 20120217-5087.

Comments Due: 5 p.m. ET 3/9/12.

Docket Numbers: ER10-2137-001.

Applicants: Beech Ridge Energy LLC.

Description: Supplement to June 20, 2011 Triennial Report of Beech Ridge Energy LLC.

Filed Date: 2/17/12.

Accession Number: 20120217-5086.

Comments Due: 5 p.m. ET 3/9/12.

Docket Numbers: ER10-2138-001; ER10-2139-001.

Applicants: Grand Ridge Energy II LLC, Grand Ridge Energy III LLC.

Description: Supplement to June 20, 2011 Triennial Report of Grand Ridge Energy II LLC, et al.

Filed Date: 2/17/12.

Accession Number: 20120217-5088.

Comments Due: 5 p.m. ET 3/9/12.

Docket Numbers: ER10-2140-001.

Applicants: Grand Ridge Energy IV LLC.

Description: Supplement to June 20, 2011 Triennial Report of Grand Ridge Energy IV LLC.

Filed Date: 2/17/12.

Accession Number: 20120217-5089.

Comments Due: 5 p.m. ET 3/9/12.

Docket Numbers: ER10-2141-001.

Applicants: Grand Ridge Energy V LLC.

Description: Supplement to June 20, 2011 Triennial Report of Grand Ridge Energy V LLC.

Filed Date: 2/17/12.

Accession Number: 20120217-5084.

Comments Due: 5 p.m. ET 3/9/12.

Docket Numbers: ER12-161-002.

Applicants: Bishop Hill Energy LLC.

Description: Change in Status Notice of Bishop Hill Energy LLC.

Filed Date: 2/17/12.

Accession Number: 20120217-5128.

Comments Due: 5 p.m. ET 3/9/12.

Docket Numbers: ER12-667-001.

Applicants: ITC Midwest LLC.

Description: Supplemental Filing of ITC Midwest—Northern States Power 205 Filing to be effective 2/21/2012.

Filed Date: 2/17/12.

Accession Number: 20120217-5037.

Comments Due: 5 p.m. ET 3/9/12.

Docket Numbers: ER12-1113-000.

Applicants: Midwest Independent Transmission System Operator, Inc., International Transmission Company.

Description: ITC-DTE River Rouge to be effective 4/17/2012 under ER12-1113.

Filed Date: 2/17/12.

Accession Number: 20120217-5034.

Comments Due: 5 p.m. ET 3/9/12.

Docket Numbers: ER12-1114-000.

Applicants: ITC Midwest LLC.

Description: Filing of a Transmission Agreement to be effective 2/29/2012.

Filed Date: 2/17/12.

Accession Number: 20120217-5047.

Comments Due: 5 p.m. ET 3/9/12.

Docket Numbers: ER12-1115-000.

Applicants: PacifiCorp.

Description: BPA AC Intertie Agreement 6th Revised to be effective 4/18/2012.

Filed Date: 2/17/12.

Accession Number: 20120217-5072.

Comments Due: 5 p.m. ET 3/9/12.

Docket Numbers: ER12-1117-000.

Applicants: Consolidated Edison Company of New York.

Description: Revisions to PASNY/EDDS tariffs to be effective 2/20/2012.

Filed Date: 2/17/12.

Accession Number: 20120217-5073.

Comments Due: 5 p.m. ET 3/9/12.

Docket Numbers: ER12-1118-000.

Applicants: Southern California Edison Company.

Description: Amended SGIA SCE-FlexEnergy, LLC Lamb Canyon Project to be effective 2/18/2012.

Filed Date: 2/17/12.

Accession Number: 20120217-5075.

Comments Due: 5 p.m. ET 3/9/12.

Docket Numbers: ER12-1119-000.

Applicants: Southern California Edison Company.

Description: Amended Expedited Service and Interconnection Agreement Wintec Energy, Ltd., Wintec V to be effective 2/18/2012.

Filed Date: 2/17/12.

Accession Number: 20120217-5076.

Comments Due: 5 p.m. ET 3/9/12.

Docket Numbers: ER12-1120-000.

Applicants: ITC Midwest LLC.

Description: ITC Midwest LLC submits tariff filing per 35.13(a)(2)(iii: Filing of Interconnection Agreement to be effective 4/19/2012.

Filed Date: 2/17/12.

Accession Number: 20120217-5090.

Comments Due: 5 p.m. ET 3/9/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2012.
Nathaniel J. Davis, Sr.,
Deputy Secretary.

[FR Doc. 2012-4435 Filed 2-24-12; 8:45 am]

BILLING CODE 6717-01-P